DEPARTMENT OF THE INTERIOR

Fish and Wildlife Service

[FWS-R4-ES-2018-N111; FXES11130400000EA-123-FF04EF1000]

Endangered and Threatened Wildlife; Incidental Take Permit Application, Habitat Conservation Plan for the Sand Skink, Lake County, FL

AGENCY: Fish and Wildlife Service, Interior.

ACTION: Notice of availability; request for comment and information.

SUMMARY: We, the Fish and Wildlife Service (Service), have received an application for an incidental take permit (ITP) under the Endangered Species Act. McDonald Ventures XXXVIII, LLC is requesting a 5-year ITP for take of the federally listed sand skink incidental to construction. We request public comment on the permit application, which includes the proposed habitat conservation plan, as well as on our preliminary determination that the plan qualifies as low-effect under the National Environmental Policy Act. To make this determination, we used our environmental action statement and low-effect screening form, which are also available for review.

DATES: To ensure consideration, please send your written comments by November 19, 2018.

ADDRESSES: If you wish to review the application, including the HCP, as well as our environmental action statement or low-effect screening form, you may request the documents by email, phone, or U.S. mail. These documents are also available for public inspection by appointment during normal business hours at the office below. Send your comments or requests by any one of the following methods.

Email: northflorida@fws.gov. Use “Attn: TE98747C-0.”

Fax: Field Supervisor, (904) 731-3191, “Attn: TE98747C-0.”

U.S. mail: Field Supervisor, Jacksonville Ecological Services Field Office, Attn: TE69161C-0, U.S. Fish and Wildlife Service, 7915 Baymeadows Way, Suite 200, Jacksonville, FL 32256.

In-person drop-off: You may drop off information during regular business hours at the above office address.

FOR FURTHER INFORMATION CONTACT: Erin M. Gawera, telephone: (904) 731-3121; email: erin_gawera@fws.gov.

SUPPLEMENTARY INFORMATION: We, the Fish and Wildlife Service (Service), have received an application for an incidental take permit (ITP) under the Endangered Species Act of 1973, as amended (ESA; 16 U.S.C. 1531 et seq.). McDonald Ventures XXXVIII, LLC (applicant) is requesting a 5-year ITP to take sand skink (Neoseps reynoldsi) incidental to the conversion of approximately 0.25 acres of occupied sand skink foraging and sheltering habitat for construction of a commercial development. The 9.37-acre project site is located on parcel Number Parcel ID numbers 42226000200000400, 42226000200000500, 42226000200000700, 42226000200000800, and 42226000200000900, within Section 34, Township 22 South, Range 26 East in Lake County, Florida. The project includes the clearing, infrastructure building, and landscaping associated with construction. The applicant proposes to mitigate for the take of the threatened sand skink by purchasing 0.50 mitigation credits within the Lake Wales Ridge Conservation Bank or another Service-approved sand skink conservation bank.

Our Preliminary Determination

We have determined that the Applicant's proposal, including the proposed mitigation and minimization measures, would have minor or negligible effects on the species covered in the HCP. Therefore, we have determined that the incidental take permit for this project would be “low effect” and qualify for categorical exclusion under the National Environmental Policy Act (NEPA). A low-effect HCP is one involving (1) minor or negligible effects on federally listed or candidate species and their habitats, and (2) minor or negligible effects on other environmental values or resources.

Public Availability of Comments

Before including your address, phone number, email address, or other personal identifying information in your comment, be aware that your entire comment—including your personal identifying information—may be made publicly available at any time. While you may request in your comment that we withhold your personal identifying information, we cannot guarantee that we will be able to do so.

Next Steps

We will evaluate the HCP and comments we receive to determine whether the ITP application meets the permit issuance requirements of section 10(a) of the ESA. We will also conduct an intra-Service consultation pursuant to section 7 of the ESA. If the requirements for permit issuance are met, we will issue ITP number TE98747C-0 to the Applicant for incidental take of the sand skink.

Authority

We provide this notice under section 10 of the Endangered Species Act of 1973, as amended (ESA; 16 U.S.C. 1531 et seq.) and the ESA's regulations, the National Environmental Policy Act (NEPA; 42 U.S.C. 4321 et seq.) and NEPA regulations (40 CFR 1506.6).

Jay B. Herrington,
Field Supervisor, Jacksonville Field Office, Southeast Region.

[FR Doc. 2018-22749 Filed 10-18-18; 8:45 am]

BILLING CODE 4333-15-P